DEPARTMENT OF AGRICULTURE

Forest Service

Saguache-Upper Rio Grande Resource Advisory Committee

AGENCY: Forest Service, USDA.

ACTION: Notice of meeting.

SUMMARY: The Saguache Upper Rio Grande Resource Advisory Committee (RAC) will meet in Del Norte, Colorado. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://cloudapps-usda-gov.secure.force.com/FSSRS/RAC_Page?id=001t00000086exUAAQ.

DATES: The meeting will be held on the following dates:

• Wednesday, August 21, 2019, at 5:00 p.m.,

• Monday, September 16, 2019, at 10:00 a.m., and

• Wednesday, September 18, 2019 at 5:00 p.m.

All RAC meetings are subject to cancellation. For status of the meeting prior to attendance, please contact the person listed under For Further Information Contact.

ADDRESSES: The meeting will be held at the Rio Grande County Annex, 925 6th Street, Del Norte, Colorado.

Written comments may be submitted as described under Supplementary Information. All comments, including names and addresses when provided, are placed in the record and are available for public inspection and copying. The public may inspect comments received at the Divide Ranger District. Please call ahead at 719-657-3321 to facilitate entry into the building.

FOR FURTHER INFORMATION CONTACT: Ariel Chomey, RAC Coordinator, by phone at 719-657-6034 or via email at ariel.chomey@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Review RAC funding, roles, responsibilities, and operating guidelines,

2. Allow public input on project proposals,

3. Allow time for project proposal presentations,

4. Discuss, recommend, and approve new Title II projects, and

5. Discuss possible future meetings and next steps.

The meeting is open to the public. The agenda will include time for people to make oral statements of three minutes or less. Individuals wishing to make an oral statement should request in writing by Friday, August 2, 2019, to be scheduled on the agenda. Anyone who would like to bring related matters to the attention of the committee may file written statements with the committee staff before or after the meeting. Written comments and requests for time for oral comments must be sent to Ariel Chomey, RAC Coordinator, 13308 West Highway 160, Del Norte, Colorado 81132; by email to ariel.chomey@usda.gov, or via facsimile at 719-657-6035.

Meeting Accommodations: If you are a person requiring reasonable accommodation, please make requests in advance for sign language interpreting, assistive listening devices, or other reasonable accommodation. For access to the facility or proceedings, please contact the person listed in the section titled For Further Information Contact. All reasonable accommodation requests are managed on a case by case basis.

Dated: July 3, 2019.
Frank R. Beum,
Acting Associate Deputy Chief, National Forest System.

[FR Doc. 2019-15856 Filed 7-24-19; 8:45 am]

BILLING CODE 3411-15-P